DEPARTMENT OF COMMERCE

National Oceanic and Atmospheric Administration

50 CFR Part 679

[I.D. 050306E]

Fisheries of the Exclusive Economic Zone Off Alaska; Allocating Gulf of Alaska Fishery Resources; Notice of Rockfish Pilot Program Public Workshops

AGENCY: National Marine Fisheries Service (NMFS), National Oceanic and Atmospheric Administration (NOAA), Commerce.

ACTION: Notice of public workshops.

SUMMARY: NMFS will present two public workshops on the Central Gulf of Alaska Rockfish Pilot Program (Program) for potentially eligible participants and other interested parties. At each workshop, NMFS will provide an overview of the proposed Program, discuss the key Program elements, provide information on the proposed rule comment process, and answer questions. NMFS is conducting these public workshops to provide assistance to fishery participants in understanding and reviewing the proposed rule that would implement this new Program.

DATES: Two workshops will be held on the following dates:

1. Friday, June 23, 2006, 9 a.m. to 12 p.m. Pacific Daylight Time, Seattle, WA.

2. Monday, June 26, 2006, 9 a.m. to 12 p.m. Alaska Daylight Time, Kodiak, AK.

ADDRESSES: The workshops will be held at the following locations:

1. Seattle — Nordby Conference Center in Fishermen's Terminal, 3919 18th Ave. W., Seattle, WA 98119.

2. Kodiak — Kodiak Fisheries Research Center (Main Conference Room), 301 Research Court, Kodiak, AK 99615.

FOR FURTHER INFORMATION CONTACT: Glenn Merrill, 907-586-7228 or glenn.merrill@noaa.gov.

SUPPLEMENTARY INFORMATION: On June 7, 2006 (71 FR 33040), NMFS published a proposed rule that would implement the Program as Amendment 68 to the Fishery Management Plan for Groundfish of the Gulf of Alaska (FMP). The proposed rule would establish a program to allocate specific Central Gulf of Alaska groundfish resources among harvesters and processors. Harvesting and processing privileges for several species of rockfish, incidental harvests of other groundfish species, and halibut prohibited species catch would be allocated to participants that meet specific requirements. Amendment 68 was approved by the North Pacific Fishery Management Council (Council) on June 6, 2005. Amendment 68 would implement the Program designed to meet the requirements of section 802 of the Consolidated Appropriations Act of 2004 (Public Law 108-109, Section 802). Section 802 specifies the eligible participants, duration of the program, methods for allocating harvesting and processing privileges, and provides NMFS with the authority to regulate processors under this Program.

NMFS is conducting public workshops to provide assistance to fishery participants in reviewing the proposed requirements of this new program. At each workshop, NMFS will provide an overview of the proposed Program, discuss the key proposed Program elements, and provide information on the public comment process for the proposed rule. The key proposed Program elements to be discussed include quota share application; cooperative, limited access, and opt-out fishery participation provisions; cooperative quota transfer provisions; the appeals process; monitoring and enforcement; and electronic reporting. Additionally, NMFS will answer questions from workshop participants. For further information on the proposed Program, please visit the NMFS Alaska Region website at http://www.fakr.noaa.gov.

Special Accommodations

These workshops are physically accessible to people with disabilities. Requests for special accommodations should be directed to Glenn Merrill (see FOR FURTHER INFORMATION CONTACT) at least 5 working days before the workshop date.

Authority: 16 U.S.C. 773 et seq., 1801 et seq., 3631 et seq.; and Pub. L. 108-199, 118 Stat. 110.

Dated: June 16, 2006.
James W. Balsiger,
Acting Deputy Assistant Administrator for Regulatory Programs, National Marine Fisheries Service.

[FR Doc. 06-5607 Filed 6-19-06; 2:20 pm]

BILLING CODE 3510-22-S